DEPARTMENT OF HEALTH AND HUMAN SERVICES

Substance Abuse and Mental Health Services Administration

Center for Substance Abuse Treatment; Notice of Meeting

Pursuant to Public Law 92-463, notice is hereby given that the Substance Abuse and Mental Health Services Administration's (SAMHSA's) Center for Substance Abuse Treatment (CSAT) National Advisory Council will meet on June 16, 2015, from 2:00 p.m.-3:15 p.m. (EDT) and June 24, 2016, from 2:00 p.m.—3:15 p.m. (EDT). Both meetings will be closed to the public.

The meetings will include discussion and evaluation of grant applications reviewed by Initial Review Groups, and involve an examination of confidential financial and business information as well as personal information concerning the applicants. Therefore, both meetings will be closed to the public, as determined by the SAMHSA Administrator, in accordance with Title 5 U.S.C. 552b(c)(4) and (6) and (c)(9)(B) and 5 U.S.C. App. 2, Section 10(d).

The meetings will be held virtually. Meeting information and a roster of Council members may be obtained either by accessing the SAMHSA Council Web site at: http://www.samhsa.gov/about-us/advisory-councils/csat-national-advisory-council or by contacting LCDR Holly Berilla.

Council Name: SAMHSA's Center for Substance Abuse Treatment National Advisory Council.

Date/Time/Type: June 16, 2015, 2:00 p.m.-3:15 p.m. EDT, CLOSED; June 24, 2015, 2:00 p.m.-3:15 p.m. EDT, CLOSED.

Place: Virtual—Teleconference.

Contact: LCDR Holly Berilla, Acting Designated Federal Official, CSAT National Advisory Council, 1 Choke Cherry Road, Rockville, Maryland 20857 (mail), Telephone: (240) 276-1252, Fax: (240) 276-2252, Email: holly.berilla@samhsa.hhs.gov.

Summer King,
Statistician, SAMHSA.

[FR Doc. 2015-11891 Filed 5-15-15; 8:45 am]

BILLING CODE 4162-20-P